DEPARTMENT OF COMMERCE

National Oceanic and Atmospheric Administration

[RTID 0648-XB343]

South Atlantic Fishery Management Council; Public Meetings

AGENCY: National Marine Fisheries Service (NMFS), National Oceanic and Atmospheric Administration (NOAA), Commerce.

ACTION: Notice of public meetings of the South Atlantic Fishery Management Council.

SUMMARY: The South Atlantic Fishery Management Council (Council) will hold meetings of the following: Snapper Grouper Committee; Dolphin Wahoo Committee; Mackerel Cobia Committee; and Habitat and Ecosystem-Based Management Committee. The meeting week will also include a formal public comment session and a meeting of the Full Council.

DATES: The Council meeting will be held from 1 p.m. on Monday, September 13, 2021, until 12 p.m. on Friday, September 17, 2021. See SUPPLEMENTARY INFORMATION for specific dates and times.

ADDRESSES: Meeting address: The meeting will be held at the Town and Country Inn, 2008 Savannah Highway, Charleston, SC 29407; phone: (884) 201-3033. The meeting will also be available via webinar. Registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on items on this agenda may be submitted through the Council's online comment form available from the Council's website at: http://safmc.net/safmc-meetings/council-meetings/. Comments will be accepted from August 30, 2021, until September 17, 2021. These comments are accessible to the public, part of the Administrative Record of the meeting, and immediately available for Council consideration.

The items of discussion in the individual meeting agendas are as follows:

Council Session I, Monday, September 13, 2021, 1 p.m. Until 5:30 p.m.

The Council will receive reports from state agencies, Council liaisons, NOAA Office of Law Enforcement, and the U.S. Coast Guard. The Council will receive updates on the Council's Citizen Science Program, outreach and communications efforts, development of the Allocations Decision Tool, the Acceptable Biological Catch (ABC) Control Rule, the Atlantic Large Whale Take Reduction Plan, and additional topics as needed.

Snapper Grouper Committee, Tuesday, September 14, 2021, 8:30 a.m. Until 5:30 p.m. and Wednesday, September 15, 2021, 8:30 a.m. Until 12 p.m.

The Committee will receive an overview of the current two-for-one permit requirement for the South Atlantic Unlimited Snapper Grouper Commercial Fishing Permit and review comments from the Snapper Grouper Advisory Panel (AP). The committee will also receive an overview proposed modifications to greater amberjack management through Amendment 49 to the Snapper Grouper Fishery Management Plan (FMP) and review recommendations from the Snapper Grouper AP. The Committee will review recommendations from the Snapper Grouper AP on proposed management measures for snowy grouper through Snapper Grouper Amendment 51 and consider approving the amendment for public scoping. Snapper Grouper Amendment 44 addressing yellowtail snapper management measures will also be reviewed and considered for scoping approval.

The Committee will review recommendations from its Scientific and Statistical Committee regarding red snapper management and review an options paper addressing short-term management measures. The Committee will review proposed measures for the wreckfish fishery through Snapper Grouper Amendment 48 and modifications to red porgy management through Snapper Grouper Amendment 50. The Committee will receive guidance on rebuilding options from NOAA Fisheries for gag grouper, discuss vermilion snapper trip limits, receive an update on the South Atlantic Red Snapper Count and the Greater Amberjack Count in the South Atlantic and Gulf of Mexico, discuss topics for the next meeting of the Snapper Grouper AP, and receive a brief on an Exempted Fishing Permit (EFP) application.

Dolphin Wahoo Committee, Wednesday, September 15, 2021, 1:30 p.m. Until 3:45 p.m.

The Committee will receive an update on the status of Amendment 10 to the Dolphin Wahoo FMP. The Amendment includes actions addressing: Revisions to recreational data and catch level recommendations; modifications to recreational accountability measures; measures to allow properly permitted commercial vessels with trap, pot or buoy gear on board to possess commercial quantities of dolphin and wahoo; removal of the current Operator Card requirement; and reductions in the recreational vessel limit for dolphin. The Council approved the amendment for Secretarial review during its June 2021 meeting. The Committee will also consider management measures to include in a future framework amendment.

Formal Public Comment, Wednesday, September 15, 2021, 4 p.m.—Public comment will be accepted from individuals attending the meeting on all items on the Council meeting agenda. The Council will be accepting public hearing comments on Amendment 50 to the Snapper Grouper FMP addressing management measures for red porgy.

The Council Chair will determine the amount of time provided to each commenter based on the number of individuals wishing to comment.

Mackerel Cobia Committee, Thursday, September 16, 2021, 8:30 a.m. Until 12 p.m.

The Committee will review Coastal Migratory Pelagics (CMP) Amendment 34 addressing management measures for Atlantic king mackerel in the South Atlantic and Gulf of Mexico and CMP Amendment 32 addressing management measures to end overfishing for Gulf of Mexico cobia. Both amendments will be considered for public hearing approval.

Habitat Protection and Ecosystem-Based Management Committee, Thursday, September 16, 2021, 1:30 p.m. Until 3 p.m.

The Committee will review Amendment 10 to the Coral FMP, which would establish a shrimp fishery access area for the deepwater shrimp fishery along the Oculina Bank Habitat Area of Particular Concern and consider approving the amendment for Secretarial Review. The Committee will also receive an update on the Habitat and Ecosystem Blueprint and discuss topics for the next meeting of the Habitat Protection and Ecosystem-Based Management AP.

Council Session II, Thursday, September 16, 2021, From 3 p.m. Until 5:30 p.m., and Friday, September 17, 2021, 8:30 a.m. Until 12 p.m.

The Council will present the 2020 Law Enforcement Officer of the Year Award and hold elections of the Chair and Vice-Chair.

The Council will receive an update from NOAA Fisheries Office of Protected Resources, review the Exempted Fishing Permit request, review the FMP Workplan, receive a staff report from the Executive Director and an update on Climate Change Scenario Planning. The Council will receive reports from NOAA Fisheries Southeast Fisheries Science Center and from the Southeast Regional Office.

The Council will receive reports from the following committees: Snapper Grouper; Dolphin Wahoo; Mackerel Cobia; and Habitat Protection and Ecosystem-Based Management.

The Council will discuss other business, upcoming meetings, and take action as necessary.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 18, 2021.
Tracey L. Thompson,
Acting Deputy Director, Office of Sustainable Fisheries, National Marine Fisheries Service.

[FR Doc. 2021-17991 Filed 8-20-21; 8:45 am]

BILLING CODE 3510-22-P